DEPARTMENT OF COMMERCE

International Trade Administration

[A-122-857]

Certain Softwood Lumber Products From Canada: Preliminary Results of Antidumping Duty Administrative Review

AGENCY: Enforcement and Compliance, International Trade Administration, Department of Commerce.

SUMMARY: The U.S. Department of Commerce (Commerce) is conducting an administrative review of the antidumping duty (AD) order on certain softwood lumber products (softwood lumber) from Canada. The period of review (POR) is January 1, 2021, through December 31, 2021. Commerce preliminarily determines that the producers/exporters subject to this review made sales of subject merchandise at less than normal value. We invite interested parties to comment on these preliminary results.

DATES: Applicable January 27, 2023.

FOR FURTHER INFORMATION CONTACT: Jeff Pedersen (Canfor) and Maisha Cryor (West Fraser), AD/CVD Operations, Office IV, Enforcement and Compliance, International Trade Administration, U.S. Department of Commerce, 1401 Constitution Avenue NW, Washington, DC 20230; telephone: (202) 482-2769 and (202) 482-5831, respectively.

SUPPLEMENTARY INFORMATION:

Background

On March 9, 2022, based on timely requests for administrative reviews, Commerce initiated an AD administrative review covering 291 companies and has not rescinded the review of any of these companies.¹ Thus, the review covers 291 producers/exporters of the subject merchandise, including mandatory respondents Canfor ² and West Fraser.³ On September 14, 2022, we extended the preliminary results until January 23, 2023.⁴

¹ See Initiation of Antidumping and Countervailing Duty Administrative Reviews, 87 FR 13860 (March 9, 2022).

² As described in the Preliminary Decision Memorandum, we have treated Canfor Corporation, Canadian Forest Products Ltd., and Canfor Wood Products Marketing Ltd. (collectively, Canfor) as a single entity. See Memorandum, “Decision Memorandum for Preliminary Results of the 2021 Antidumping Duty Administrative Review of Certain Softwood Lumber Products from Canada,” dated concurrently with, and hereby adopted by, this notice (Preliminary Decision Memorandum), at 5.

³ As described in the Preliminary Decision Memorandum, we have treated West Fraser Mills Ltd., Blue Ridge Lumber Inc., Manning Forest Products Ltd., and Sundre Forest Products Inc. (collectively, West Fraser) as a single entity. See Preliminary Decision Memorandum at 6.

⁴ See Memorandum, “Extension of Deadline for Preliminary Results of Antidumping Duty Administrative Review—2021,” dated September 14, 2022. A list of all companies under review is included as Appendix II to this notice.

Scope of the Order

The product covered by this order is softwood lumber from Canada. For a full description of the scope, see the Preliminary Decision Memorandum.⁵

⁵ See Preliminary Decision Memorandum at 3-4.

Methodology

Commerce is conducting this review in accordance with section 751(a)(1)(B) of the Tariff Act of 1930, as amended (the Act). For a full description of the methodology underlying our conclusions, see the Preliminary Decision Memorandum. A list of the topics discussed in the Preliminary Decision Memorandum is included as Appendix I to this notice. The Preliminary Decision Memorandum is a public document and is made available to the public via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Preliminary Results of Review

We preliminarily determine that the following weighted-average dumping margins exist for the period January 1, 2021, through December 31, 2021:

Exporter/producer | Weighted-average dumping margin (percent)
Canfor Corporation/Canadian Forest Products Ltd./Canfor Wood Products Marketing Ltd | 5.25
West Fraser Mills Ltd./Blue Ridge Lumber Inc./Manning Forest Products Ltd./and Sundre Forest Products Inc | 6.90
Non-Selected Companies | 6.05

Rate for Companies Not Individually Examined

Generally, when calculating margins for non-selected respondents, Commerce looks to section 735(c)(5) of the Act for guidance, which provides instructions for calculating the all-others rate in an investigation. Section 735(c)(5)(A) of the Act provides that when calculating the all-others rate, Commerce will exclude any zero and de minimis weighted-average dumping margins, as well as any weighted-average dumping margins based on total facts available. Accordingly, Commerce's usual practice has been to average the margins for selected respondents, excluding margins that are zero, de minimis, or based entirely on facts available.

In this review, we calculated a weighted-average dumping margin of 5.25 percent for Canfor and 6.90 percent for West Fraser. In accordance with section 735(c)(5)(A) of the Act, Commerce assigned the weighted average of these two calculated weighted-average dumping margins based on their publicly ranged sales data, 6.05 percent, to the non-selected companies in these preliminary results.⁶

⁶ See Memorandum, “Calculation of the Rate for Non-Selected Respondents,” dated concurrently with this notice, and Attachment II (containing a list of the non-selected companies under review).

Disclosure

We intend to disclose the calculations performed for these preliminary results to the interested parties within five days after public announcement of the preliminary results in accordance with 19 CFR 351.224(b).

Public Comment

Pursuant to 19 CFR 351.309(c), interested parties may submit case briefs to the Assistant Secretary for Enforcement and Compliance not later than 30 days after the date of publication of this notice, unless Commerce alters the time limit. Rebuttal briefs, limited to issues raised in the case briefs, may be filed not later than seven days after the date for filing case briefs.⁷ Parties who submit case briefs or rebuttal briefs in this administrative review are encouraged to submit with each argument: (1) a statement of the issue; (2) a brief summary of the argument; and (3) a table of authorities.⁸ Commerce has modified certain of its requirements for service of documents containing business proprietary information, until further notice.⁹

⁷ See 19 CFR 351.309(d); see also 19 CFR 351.303 (for general filing requirements).

⁸ See 19 CFR 351.309(c)(2) and (d)(2).

⁹ See Temporary Rule Modifying AD/CVD Service Requirements Due to COVID-19; Extension of Effective Period, 85 FR 41363 (July 10, 2020).

Pursuant to 19 CFR 351.310(c), interested parties who wish to request a hearing, must submit a written request to the Assistant Secretary for Enforcement and Compliance, filed electronically via ACCESS. An electronically filed document must be received successfully in its entirety via ACCESS by 5:00 p.m. Eastern Time within 30 days after the date of publication of this notice.¹⁰ Requests should contain: (1) the party's name, address, and telephone number; (2) the number of participants; and (3) a list of issues to be discussed. Issues raised in the hearing will be limited to those raised in the respective case briefs. Commerce intends to issue the final results of this administrative review, including the results of its analysis of the issues raised in any written briefs, not later than 120 days after the date of publication of these preliminary results in the Federal Register, pursuant to section 751(a)(3)(A) of the Act, unless extended.

¹⁰ See 19 CFR 351.310(c).

Assessment Rate

Upon issuance of the final results, Commerce will determine, and U.S. Customs and Border Protection (CBP) shall assess, antidumping duties on all appropriate entries covered by this review.¹¹ If a respondent's weighted-average dumping margin is above de minimis in the final results of this review, we will calculate an importer-specific assessment rate based on the ratio of the total amount of dumping calculated for each importer's examined sales and the total entered value of the sales in accordance with 19 CFR 351.212(b)(1).¹² If a respondent's weighted-average dumping margin or an importer-specific assessment rate is zero or de minimis in the final results of review, we will instruct CBP to liquidate the appropriate entries without regard to antidumping duties in accordance with the Final Modification for Reviews.¹³ The final results of this administrative review shall be the basis for the assessment of antidumping duties on entries of merchandise under review and for future deposits of estimated duties, where applicable. We intend to issue liquidation instructions to CBP no earlier than 41 days after date of publication of the final results of this review in the Federal Register.

¹¹ See 19 CFR 351.212(b).

¹² In these preliminary results, Commerce applied the assessment rate calculation method adopted in Antidumping Proceedings: Calculation of the Weighted-Average Dumping Margin and Assessment Rate in Certain Antidumping Duty Proceedings; Final Modification, 77 FR 8101 (February 14, 2012) (Final Modification for Reviews).

¹³ See Final Modification for Reviews, 77 FR at 8103; see also 19 CFR 351.106(c)(2).

Cash Deposit Requirements

The following cash deposit requirements for estimated antidumping duties will be effective upon publication of the notice of final results of this review for all shipments of softwood lumber from Canada entered, or withdrawn from warehouse, for consumption on or after the date of publication as provided by section 751(a)(2)(C) of the Act: (1) the cash deposit rate for companies subject to this review will be equal to the dumping margin established in the final results of the review; (2) for merchandise exported by companies not covered in this review but covered in a prior segment of this proceeding, the cash deposit rate will continue to be the company-specific rate published for the most recent period; (3) if the exporter is not a firm covered in this review, a prior review, or the less-than-fair-value (LTFV) investigation but the producer is, the cash deposit rate will be the rate established for the most recently completed segment for the producer of the merchandise; (4) the cash deposit rate for all other producers or exporters will continue to be the 6.04 percent, the all-others rate established in the LTFV investigation.¹⁴ These cash deposit requirements, when imposed, shall remain in effect until further notice.

¹⁴ See Certain Softwood Lumber Products from Canada: Antidumping Duty Order and Partial Amended Final Determination, 83 FR 350 (January 3, 2018).

Notification to Importers

This notice serves as a preliminary reminder to importers of their responsibility under 19 CFR 351.402(f)(2) to file a certificate regarding the reimbursement of antidumping and/or countervailing duties prior to liquidation of the relevant entries during this period of review. Failure to comply with this requirement could result in Commerce's presumption that reimbursement of antidumping and/or countervailing duties occurred and the subsequent assessment of double antidumping duties, and/or an increase in the amount of antidumping duties by the amount of the countervailing duties.

Notification to Interested Parties

Commerce is issuing and publishing these results in accordance with sections 751(a)(1) and 777(i) of the Act, and 19 CFR 351.221(b)(4).

Dated: January 23, 2023.
Ryan Majerus,
Deputy Assistant Secretary for Policy and Negotiations.

Appendix I

List of Topics Discussed in the Preliminary Decision Memorandum

I. Summary

II. Background

III. Scope of the Order

IV. Affiliation and Collapsing of Affiliates

V. Particular Market Situation Allegation

VI. Duty Absorption

VII. Unexamined Respondents

VIII. Discussion of the Methodology

IX. Recommendation

Appendix II

Companies Under Review

1. 0752615 B.C Ltd./752615 B.C Ltd./Fraserview Remanufacturing Inc, DBA Fraserview Cedar Products

2. 10104704 Manitoba Ltd O/A Woodstock Forest Product

3. 1074712 BC Ltd./DBA Quadra Cedar

4. 5214875 Manitoba Ltd.

5. 54 Reman

6. 9224-5737 Quebec Inc. (aka A.G. Bois)

7. AA Trading Ltd.

8. Absolute Lumber Products Ltd.

9. Adwood Manufacturing Ltd.

10. AJ Forest Products Ltd.

11. Aler Forest Products Ltd.

12. All American Forest Products Inc.

13. Alpa Lumber Mills Inc.

14. Andersen Pacific Forest Products Ltd.

15. Anglo American Cedar Products Ltd.; Anglo-American Cedar Products Ltd.

16. Antrim Cedar Corporation

17. Aquila Cedar Products Ltd.

18. Arbec Lumber Inc. (aka Arbec Bois Doeuvre Inc.)

19. Aspen Planers Ltd.

20. B&L Forest Products Ltd.

21. B.B. Pallets Inc. (aka Les Palettes B.B. Inc.)

22. Babine Forest Products Limited

23. Bakerview Forest Products Inc.

24. Bardobec Inc.

25. Barrette-Chapais Ltee

26. BarretteWood Inc.

27. Benoît & Dionne Produits Forestiers Ltee (aka Benoît & Dionne Forest Products Ltd.)

28. Best Quality Cedar Products Ltd.

29. Blanchet Multi Concept Inc.

30. Blanchette & Blanchette Inc.

31. Bois Aise de Montreal Inc.

32. Bois Bonsaï Inc.

33. Bois Daaquam inc. (aka Daaquam Lumber Inc.)

34. Bois D'oeuvre Cedrico Inc. (aka Cedrico Lumber Inc.)

35. Bois et Solutions Marketing SPEC, Inc. (aka SPEC Wood & Marketing Solution or SPEC Wood and Marketing Solutions Inc.)

36. Boisaco Inc.

37. Boscus Canada Inc.

38. Boucher Bros. Lumber Ltd.

39. BPWood Ltd.

40. Bramwood Forest Inc.

41. Brink Forest Products Ltd.

42. Brunswick Valley Lumber Inc.

43. Burrows Lumber (CD) Ltd., Theo A. Burrows Lumber Company Limited

44. Busque & Laflamme Inc.

45. Campbell River Shake & Shingle Co. Ltd.

46. Canada Pallet Corp.

47. Canadian Forest Products Ltd.; Canfor Wood Products Marketing Ltd.; Canfor Corporation

48. Canasia Forest Industries Ltd.

49. Canyon Lumber Company Ltd.

50. Careau Bois inc.

51. CarlWood Lumber Ltd.

52. Carrier & Begin Inc.

53. Carrier Forest Products Ltd.

54. Carrier Lumber Ltd.

55. Carter Forest Products Inc.

56. Cedar Island Forest Products Ltd.

57. Cedar Valley Holdings Ltd.

58. Cedarcoast Lumber Products

59. Cedarland Forest Products Ltd.

60. Cedarline Industries Ltd.

61. Central Cedar Ltd.

62. Central Forest Products Inc.

63. Centurion Lumber Ltd.

64. Chaleur Forest Products Inc.

65. Chaleur Forest Products LP

66. Channel-ex Trading Corporation

67. CHAP Alliance Inc.¹⁵

¹⁵ On August 26, 2021 Commerce published the final results of a changed circumstances review determining that CHAP Alliance, Inc. (CHAP) is the successor-in-interest to L'Atelier de Réadaptation au Travil de Beauce Inc. (L'Atelier). See Certain Softwood Lumber Products From Canada: Notice of Final Results of Antidumping Duty Changed Circumstances Review, 86 FR 47621 (August 26, 2021). We intend to liquidate all entries by L'Atelier based on the final results, but revise the cash deposit rate to apply to CHAP.

68. Clair Industrial Development Corp. Ltd.

69. Clermond Hamel Ltee

70. CLG Enterprises Inc.

71. CNH Products Inc.

72. Coast Clear Wood Ltd.

73. Coast Mountain Cedar Products Ltd.

74. Columbia River Shake & Shingle Ltd./Teal Cedar Products Ltd., DBA the Teal Jones Group.

75. Commonwealth Plywood Co. Ltd.

76. Comox Valley Shakes (2019) Ltd.

77. Conifex Fibre Marketing Inc.

78. Coulson Manufacturing Ltd.

79. Cowichan Lumber Ltd.

80. CS Manufacturing Inc. (dba Cedarshed)

81. CWP—Industriel Inc.

82. CWP—Montreal Inc.

83. D & D Pallets Ltd.

84. Dakeryn Industries Ltd.

85. Decker Lake Forest Products Ltd.

86. Deep Cove Forest Products, Inc.

87. Delco Forest Products Ltd.

88. Delta Cedar Specialties Ltd.

89. Devon Lumber Co. Ltd.

90. DH Manufacturing Inc.

91. Direct Cedar Supplies Ltd.

92. Distribution Rioux Inc.

93. Doubletree Forest Products Ltd.

94. Downie Timber Ltd.

95. Dunkley Lumber Ltd.

96. EACOM Timber Corporation

97. East Fraser Fiber Co. Ltd.

98. Edgewood Forest Products Inc.

99. Elrod Cartage Ltd.

100. ER Probyn Export Ltd.

101. Falcon Lumber Ltd.

102. Fontaine Inc.

103. Foothills Forest Products Inc.

104. Resolute Growth Canada Inc.; Forest Products Mauricie LP, Société en commandite Scierie Opitciwan; Resolute-LP Engineered Wood Larouche Inc.; Resolute-LP Engineered Wood St-Prime Limited Partnership; Resolute FP Canada Inc.

105. Fraser Specialty Products Ltd.

106. FraserWood Industries Ltd.

107. Furtado Forest Products Ltd.

108. Glandell Enterprises Inc.

109. Goldband Shake & Shingle Ltd.

110. Goldwood Industries Ltd.

111. Goodfellow Inc.

112. Gorman Bros. Lumber Ltd.

113. Greendale Industries Inc.

114. GreenFirst Forest Products (QC) Inc.

115. Greenwell Resources Inc.

116. Griff Building Supplies Ltd.

117. Groupe Crete Chertsey Inc.

118. Groupe Crete Division St-Faustin Inc.

119. Groupe Lebel Inc.

120. Groupe Lignarex Inc.

121. H.J. Crabbe & Sons Ltd.

122. Haida Forest Products Ltd.

123. Halo Sawmill, a division of Delta Cedar Specialties Ltd./Halo Sawmill Manufacturing Limited Partnership

124. Hampton Tree Farms, LLC (dba Hampton Lumber Sales Canada)

125. Hornepayne Lumber LP

126. Hudson Mitchell & Sons Lumber Inc.

127. Hy Mark Wood Products Inc.

128. Imperial Cedar Products Ltd.

129. Independent Building Materials Distribution Inc.

130. Interfor Corporation/Interfor Sales & Marketing Ltd.¹⁶

¹⁶ In the previous review, in the ACE module Interfor Corporation and Interfor Sales & Marketing Ltd. were set up with different company numbers, i.e., A-122-857-118 and A-122-857-299. In the instant review, Interfor Corporation and Interfor Sales & Marketing Ltd. have stated that both Interfor Corporation and Interfor Sales & Marketing export lumber produced by Interfor Corporation. See Interfor Corporation and Interfor Sales & Marketing Ltd.'s Letter, “Comments in Response to Commerce's Request for Clarification of the Review Requests,” dated February 14, 2022. Therefore, for the final results, we will combine both company names under one company number.

131. Intertran Holdings Ltd. (dba Richmond Terminal)

132. Island Cedar Products Ltd.

133. Ivor Forest Products Ltd.

134. J&G Log Works Ltd.

135. J.D. Irving, Limited

136. J.H. Huscroft Ltd.

137. Jan Woodlands (2001) Inc.

138. Jasco Forest Products Ltd.

139. Jazz Forest Products Ltd.

140. Jhajj Lumber Corporation

141. Kalesnikoff Lumber Co. Ltd.

142. Kan Wood Ltd.

143. Kebois Ltee; Kebois Ltd.

144. Kelfor Industries Ltd.

145. Kermode Forest Products Ltd.

146. Keystone Timber Ltd.

147. Lafontaine Lumber Inc.

148. Langevin Forest Products Inc.

149. Lecours Lumber Co. Limited

150. Leisure Lumber Ltd.

151. Les Bardeaux Lajoie Inc.

152. Les Bois d'oeuvre Beaudoin Gauthier inc.

153. Les Bois Martek Lumber

154. Les Bois Traites M.G. Inc.

155. Les Chantiers de Chibougamau Ltd.; Les Chantiers de Chibougamau Ltd.

156. Les Industries P.F. Inc.

157. Les Produits Forestiers D&G Ltee; D&G Forest Products Ltd.

158. Les Produits Forestiers Sitka Inc. (aka Sitka Forest Products Inc.)

159. Leslie Forest Products Ltd.

160. Lignum Forest Products LLP

161. Linwood Homes Ltd.

162. Lonestar Lumber lnc.

163. Lulumco Inc.

164. Magnum Forest Products Ltd.

165. Maibec Inc.

166. Mainland Sawmill, a division of Terminal Forest Products

167. Manitou Forest Products Ltd.

168. Manning Forest Products Ltd.; Sundre Forest Products Inc.; Blue Ridge Lumber Inc.; West Fraser Mills Ltd.

169. Marcel Lauzon Inc.

170. Marwood Ltd.

171. Materiaux Blanchet Inc.

172. Metrie Canada Ltd.

173. Mid Valley Lumber Specialties Ltd.

174. Midway Lumber Mills Ltd.

175. Mill & Timber Products Ltd.

176. Millar Western Forest Products Ltd.

177. Mirax Lumber Products Ltd.

178. Mobilier Rustique (Beauce) Inc.

179. Modern Terminal Ltd.

180. Monterra Lumber Mills Limited

181. Morwood Forest Products Inc.

182. Multicedre Ltee

183. Murray Brothers Lumber Company Ltd.

184. Nagaard Sawmill Ltd.

185. Nakina Lumber Inc.

186. National Forest Products Ltd.

187. Nicholson and Cates Ltd.

188. Nickel Lake Lumber

189. Norsask Forest Products Inc.

190. Norsask Forest Products Limited Partnership

191. North American Forest Products Ltd. (located in Abbotsford, British Columbia)

192. North American Forest Products Ltd. (located in Saint-Quentin, New Brunswick)

193. North Enderby Timber Ltd.

194. Northland Forest Products Ltd.

195. NSC Lumber Ltd.

196. Olympic Industries Inc.

197. Olympic Industries ULC

198. Oregon Canadian Forest Products; Oregon Canadian Forest Products Inc.

199. Pacific Coast Cedar Products Ltd.

200. Pacific Lumber Remanufacturing Inc.

201. Pacific Pallet Ltd.

202. Pacific Western Wood Works Ltd.

203. PalletSource Inc.

204. Parallel Wood Products Ltd.

205. Pat Power Forest Products Corporation

206. Peak Industries (Cranbrook) Ltd.

207. Phoenix Forest Products Inc.

208. Pine Ideas Ltd.

209. Pioneer Pallet & Lumber Ltd.

210. Porcupine Wood Products Ltd.

211. Portbec Forest Products Ltd (aka Les Produits Forestiers Portbec Ltée)

212. Power Wood Corp.

213. Precision Cedar Products Corp.

214. Prendiville Industries Ltd. (aka Kenora Forest Products)

215. Produits Forestiers Petit Paris Inc.

216. Produits Matra Inc.

217. Promobois G.D.S. Inc.

218. Rayonier A.M. Canada GP

219. Rembos Inc.

220. Rene Bernard Inc.

221. Rick Dubois

222. Rielly Industrial Lumber Inc.

223. River City Remanufacturing Inc.

224. S&R Sawmills Ltd.

225. S&W Forest Products Ltd.

226. San Group

227. San Industries Ltd.

228. Sapphire Lumber Company

229. Sawarne Lumber Co. Ltd.

230. Scierie Alexandre Lemay & Fils Inc.

231. Scierie St-Michel Inc.

232. Scierie West Brome Inc.

233. Scott Lumber Sales/Scott Lumber Sales Ltd.¹⁷

¹⁷ See Scott Lumber Sales Letter, “Requests for Clarifications of Review Requests,” dated February 10, 2022, in which Scott Lumber Sales confirmed that its complete name is Scott Lumber Sales Ltd.

234. Sechoirs de Beauce Inc.

235. Shakertown Corp.

236. Sigurdson Forest Products Ltd.

237. Silvaris Corporation

238. Sinclar Group Forest Products Ltd.

239. Skana Forest Products Ltd.

240. Skeena Sawmills Ltd.

241. Sonora Logging Ltd.

242. Source Forest Products

243. South Beach Trading Inc.

244. South Coast Reman Ltd./Southcoast Millwork Ltd.¹⁸

¹⁸ Patrick Lumber submitted information that South Coast Reman Ltd. and Southcoast Millwork Ltd. are the same company. See Patrick Lumber's Letter, “Patrick Lumber Company Response to Request for Clarification of Review Request,” dated February 14, 2022; see also Patrick Lumber's Letter, “Company Request for Administrative Review (1/1/2021-12/31/2021),” dated January 31, 2022. We have added Southcoast Millwork Ltd. to the ACE module for case number A-122-857-322.

245. South Fraser Container Terminals

246. Specialiste du Bardeau de Cedre Inc./Specialiste du Bardeau de Cedre Inc. (SBC)

247. Spruceland Millworks Inc.

248. Star Lumber Canada Ltd.

249. Suncoast Industries Inc.

250. Suncoh Custom Lumber Ltd.

251. Sundher Timber Products Inc.

252. Surplus G Rioux

253. Surrey Cedar Ltd.

254. Swiftwood Forest Products Ltd.

255. T&P Trucking Ltd.

256. Taan Forest Limited Partnership (aka Taan Forest Products)

257. Taiga Building Products Ltd.

258. Tall Tree Lumber Company

259. Temrex Forest Products LP; Produits Forestiers Temrex SEC.

260. Tenryu Canada Corporation

261. Terminal Forest Products Ltd.

262. TG Wood Products

263. The Wood Source Inc.

264. Tolko Industries Ltd.; Tolko Marketing and Sales Ltd.; Gilbert Smith Forest Products Ltd.

265. Top Quality Lumber Ltd.

266. Trans-Pacific Trading Ltd.

267. Triad Forest Products Ltd.

268. Twin Rivers Paper Co. Inc.

269. Tyee Timber Products Ltd.

270. Usine Sartigan Inc.

271. Vaagen Fibre Canada ULC

272. Valley Cedar 2 Inc.

273. Vancouver Specialty Cedar Products Ltd.

274. Vanderhoof Specialty Wood Products Ltd.

275. Visscher Lumber Inc.

276. W.I. Woodtone Industries Inc.

277. Waldun Forest Product Sales Ltd.

278. Watkins Sawmills Ltd.

279. West Bay Forest Products Ltd.

280. Western Forest Products Inc.

281. Western Lumber Sales Limited

282. Western Timber Products, Inc.

283. Westminster Industries Ltd.

284. Weston Forest Products Inc.

285. Weyerhaeuser Co.

286. White River Forest Products L.P.

287. Winton Homes Ltd.

288. Woodline Forest Products Ltd.

289. Woodstock Forest Products

290. Woodtone Specialties Inc.

291. WWW Timber Products Ltd.

[FR Doc. 2023-01719 Filed 1-26-23; 8:45 am]

BILLING CODE 3510-DS-P